DEPARTMENT OF THE TREASURY

Office of Foreign Assets Control

Notice of OFAC Sanctions Action

AGENCY: Office of Foreign Assets Control, Treasury.

ACTION: Notice.

SUMMARY: The U.S. Department of the Treasury's Office of Foreign Assets Control (“OFAC”) is updating the identifying information on its Specially Designated Nationals and Blocked Persons List (“SDN List”) for a person whose property and interests in property are blocked pursuant to Executive Order 13224 of September 23, 2001, “Blocking Property and Prohibiting Transactions With Persons Who Commit, Threaten To Commit, or Support Terrorism.”

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action

On April 7, 2022, OFAC published the following revised information for the following person on OFAC's SDN List whose property and interests in property are blocked pursuant to Executive Order 13224.

Individual

1. CHATAYEV, Akhmed (a.k.a. CHATAEV, Ahmed; a.k.a. CHATAEV, Akhmed Rajapovich; a.k.a. CHATAEV, Akhmet; a.k.a. CHATAYEV, Akhmad; a.k.a. CHATAYEV, Akhmet; a.k.a. SENE, Elmir; a.k.a. TSCHATAJEV, Achmed Radschapovitsch; a.k.a. TSCHATAJEV, Ahmed Radschapovitsch; a.k.a. TSCHATAYEV, Achmed Radschapovitsch; a.k.a. TSCHATAYEV, Ahmed Radschapovitsch; a.k.a. “Akhmed Odnorukiy”; a.k.a. “Akhmed the One-Armed”; a.k.a. “AL-SHISHANI, Akhmed”; a.k.a. “CHATAEV, A.R.”; a.k.a. “Odnorukiy”; a.k.a. “SHISHANI, Akhmad”); DOB 14 Jul 1980; POB Vedeno Village, Vedenskiy District, the Republic of Chechnya, Russia; citizen Russia; Passport 96001331958 (Russia) (individual) [SDGT] (Linked To: ISLAMIC STATE OF IRAQ AND THE LEVANT).

Dated: April 7, 2022.
Bradley T. Smith,
Deputy Director, Office of Foreign Assets Control, U.S. Department of the Treasury.

[FR Doc. 2022-07968 Filed 4-13-22; 8:45 am]

BILLING CODE 4810-AL-P